DEPARTMENT OF LABOR

Employment and Training Administration

[TA-W-37,279]

Sterling Diagnostic Imaging, Inc., Currently Known as AGFA, Including Workers of EDS, Brevard, NC; Amended Certification Regarding Eligibility To Apply for Worker Adjustment Assistance

In accordance with section 223 of the Trade Act of 1974 (19 U.S.C. 2273) the Department of Labor issued a Certification of Eligibility to Apply for Worker Adjustment Assistance on March 22, 2002, applicable to workers of Sterling Diagnostic Imaging, Inc., Brevard, North Carolina. The notice was published in the Federal Register on April 21, 2000 (65 FR 21472).

At the request of the petitioners, the Department reviewed the certification for workers of the subject firm. The workers produce medical X-ray film and the polyester based chemicals used in its manufacture. Sterling Diagnostic Imaging, Inc. was purchased by Agfa Corporation in May 1999. New information shows that some employees of EDS, Charlotte, North Carolina, working at Sterling Diagnostic Imaging, Inc., Brevard, North Carolina were separated from employment.

The intent of the Department's certification is to provide coverage to all workers at the firm adversely affected by increased imports of x-ray film and chemicals. Therefore, the Department is amending the certification to include employees of EDS engaged in employment related to the production of x-ray film and chemicals at Sterling Diagnostic Imaging, Inc., currently known as Agfa Corporation, Brevard, North Carolina.

The amended notice applicable to TA-W-37,279 is hereby issued as follows:

All workers of Sterling Diagnostic Imaging, Inc., currently known as Agfa Corporation, Brevard, North Carolina, and workers of EDS engaged in employment related to the production of x-ray film and chemicals at Sterling Diagnostic Imaging, Inc., currently known as Agfa Corporation, Brevard, North Carolina, who became totally or partially separated from employment on or after January 6, 1999 through March 22, 2002, are eligible to apply for adjustment assistance under Section 223 of the Trade Act of 1974.

Signed at Washington, DC, this 13th day of February, 2003.
Linda G. Poole,
Certifying Officer, Division of Trade Adjustment Assistance.

[FR Doc. 03-13815 Filed 6-2-03; 8:45 am]

BILLING CODE 4510-30-M